DEPARTMENT OF JUSTICE

Civil Rights Division; Agency Information Collection Activities: Proposed Collection; Comments Requested

ACTION: 60-Day notice of information collection under review: Complaint Form, Coordination and Review Section, Civil Rights Division, correction.

FOR FURTHER INFORMATION CONTACT: Brenda E. Dyer, (202) 616-1167.

Correction

In the Federal Register issue of February 25, 2004, in FR Doc. 04-4032, on page 8681, in the Action line, correct the title to read: Complaint Form, Coordination and Review Section, Civil Rights Division

Dated: March 30, 2004.
Brenda E. Dyer,
Department Deputy Clearance Officer, PRA, Department of Justice.

[FR Doc. 04-7453 Filed 4-1-04; 8:45 am]

BILLING CODE 4410-13-P